NATIONAL AERONAUTICS AND SPACE ADMINISTRATION

[Notice: (22-009)]

NASA Advisory Council; STEM Engagement Committee; Meeting

AGENCY: National Aeronautics and Space Administration.

ACTION: Notice of meeting.

SUMMARY: In accordance with the Federal Advisory Committee Act, Public Law 92-463, as amended, the National Aeronautics and Space Administration announces a meeting of the Science, Technology, Engineering and Mathematics (STEM) Engagement Committee of the NASA Advisory Council (NAC). This Committee reports to the NAC.

DATES: Thursday, February 17, 2021, 1:00 p.m.-5:00 p.m., Eastern Time.

ADDRESSES: Virtual meeting by dial-in teleconference and WebEx only.

FOR FURTHER INFORMATION CONTACT: Dr. Beverly Girten, Designated Federal Officer, NAC STEM Engagement Committee, NASA Headquarters, Washington, DC 20546, (202) 358-0212, or beverly.e.girten@nasa.gov.

SUPPLEMENTARY INFORMATION: This meeting will be held virtually and will be available telephonically and by WebEx only. You must use a touch tone phone to participate in this meeting. Any interested person may dial the toll-free access number 415-527-5035, and then the access code 2763 189 1436 followed by the # sign. To join via WebEx, use link: https://nasaenterprise.webex.com/nasaenterprise/onstage/g.php?MTID=e8c794ada9b86b843b5b6596863ecbdd6 with meeting number and access code 2763 189 1436 and password t2nNvj46M5$ (Password is case sensitive.) NOTE: If dialing in, please “mute” your telephone. The agenda for the meeting will include the following:

—Opening Remarks by Chair

—STEM Engagement Update, Goals and Strategy

—Priorities for 2022

—Review Earlier Findings and Recommendations to the NASA Advisory Council

—Formulation of New Findings and Recommendations

—Other Related Topics

It is imperative that the meeting be held on this date to accommodate the scheduling priorities of the key participants.

Patricia Rausch,
Advisory Committee Management Officer, National Aeronautics and Space Administration.

[FR Doc. 2022-02207 Filed 2-2-22; 8:45 am]

BILLING CODE 7510-13-P